DEPARTMENT OF EDUCATION

Authorization of Subgrants for The Rhonda Weiss National Technical Assistance Center To Improve State Capacity To Collect, Report, Analyze, and Use Accurate IDEA Data in Accessible Formats

AGENCY: Office of Special Education and Rehabilitative Services, Department of Education.

ACTION: Notice.

SUMMARY: Pursuant to the Education Department General Administrative Regulations, the Department of Education (Department) authorizes the grantee receiving an award under the Rhonda Weiss National Technical Assistance Center to Improve State Capacity to Collect, Report, Analyze, and Use Accurate IDEA Data in Accessible Formats (Accessible Data Center), (Assistance Listing Number (ALN) 84.373Q), to make subgrants, subject to the limitations described in this notice.

DATES: Applicable Date: March 10, 2023.

FOR FURTHER INFORMATION CONTACT: Rebecca Smith, U.S. Department of Education, 400 Maryland Avenue SW, Room 5076, Potomac Center Plaza, Washington, DC 20202-5076. Telephone: (202) 987-0139. Email: rebecca.smith@ed.gov.

If you are deaf, hard of hearing, or have a speech disability and wish to access telecommunications relay services, please dial 7-1-1.

SUPPLEMENTARY INFORMATION:

Purpose of Program: The purpose of the Accessible Data Center is to improve State capacity to accurately collect, report, analyze, and use the Individuals with Disabilities Education Act (IDEA) Part B and Part C data reported under IDEA sections 616 and 618 in accessible formats for persons with disabilities, particularly those with blindness, visual impairments, motor impairments, and intellectual disabilities.

Subgrant Authorization: The Department's regulations in 34 CFR 75.708(a) prohibit a grantee from making a subgrant under this program unless authorized by statute or by a notice in the Federal Register. While subgranting is not authorized by statute for this program, and the Department's notice inviting applications (NIA) published in the Federal Register on July 12, 2022 (87 FR 41298) did not authorize subgranting for this program, the Department has determined that subgrants may be appropriate and necessary to enable the grantee to meet the purposes of the Accessible Data Center. Specifically, OSEP has determined that allowing the grantee to form partnerships with eligible entities to implement grant requirements under this competition (including through the awarding of a subgrant) is necessary given the project's nature and need for a close, collaborative and substantive relationship between the grantee and the subgrant and the grantee's responsibility to oversee its subgrantee. Accordingly, through this notice, we authorize the grantee, Applied Engineering Management Corporation (AEM) to make subgrants on the terms outlined in this notice and consistent with AEM's application.

Under 34 CFR 75.708(b) and (c), if the grantee uses this subgranting authority, the grantee has the authority to award subgrants only to eligible entities identified in the grantee's approved application or selected through a competition under procedures established by the grantee, and the subgrants must be used only to directly carry out project activities described in the grantee's approved application and consistent with the purpose described in ALN 84.373Q and the priority and requirements established in the NIA. The Accessible Data Center grantee may make subgrants to the following eligible entities: State educational agencies; State lead agencies under Part C of the IDEA; local educational agencies (LEAs), including public charter schools that are considered LEAs under State law; institutions of higher education; other public agencies; nonprofit organizations; freely associated States and outlying areas; Indian Tribes or Tribal organizations; and for-profit organizations.

Further, under 34 CFR 75.708(d), the grantee must ensure that: (1) subgrants are awarded on the basis of the approved budget that is consistent with the grantee's approved application and all applicable Federal statutory, regulatory, and other requirements; (2) every subgrant includes all conditions required by Federal statutes and Executive Orders and their implementing regulations; and (3) subgrantees are aware of the requirements imposed upon them by Federal statutes and regulations, including the Federal anti-discrimination laws enforced by the Department, which are listed in 34 CFR 75.500. Additionally, as is true with any expenditures incurred under the Department's grant programs, Accessible Data Center expenditures must satisfy the OMB Uniform Administrative Requirements, Cost Principles, and Audit Requirements for Federal Awards in 2 CFR part 200, including the Federal cost principles in 2 CFR part 200, subpart E. Therefore, any subgrant and subgrantee expenditures must comply with the Federal cost principles, and the grantee, as a pass-through entity, must comply with the procedures for making subawards described in 2 CFR 200.332.

Note: This notice does not solicit applications.

Program Authority: 20 U.S.C. 1411(c), 1416(i), 1418(c), 1442; and the Consolidated Appropriations Act, 2021, Pub. L. 116-260, 134 Stat. 1182, 1601.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents published by the Department in the Federal Register, in text or Adobe Portable Document Format (PDF). To use PDF you must have Adobe Acrobat Reader, which is available free at the site. You may also access Department documents published in the Federal Register by using the article search feature at www.federalregister.gov. Specifically, through the advanced search feature at this site, you can limit your search to documents published by the Department.

Katherine Neas,
Deputy Assistant Secretary. Delegated the authority to perform the functions and duties of the Assistant Secretary for the Office of Special Education and Rehabilitative Services.

[FR Doc. 2023-04909 Filed 3-9-23; 8:45 am]

BILLING CODE 4000-01-P